FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than July 20, 2010.

A. Federal Reserve Bank of Philadelphia (Michael E. Collins, Senior Vice President) 100 North 6th Street, Philadelphia, Pennsylvania 19105-1521:

1. Patriot Financial Partners, GP, L.P.; Patriot Financial Partners, L.P.; Patriot Financial Partners Parallel, L.P.; Patriot Financial Partners, GP, LLC; Patriot Financial Managers, L.P.; Ira M. Lubert; W. Kirk Wycoff; and James J. Lynch, all of Philadelphia, Pennsylvania; to acquire voting shares of Palmetto Bancshares, Inc., and thereby indirectly acquire voting shares of The Palmetto Bank, both of Greenville, South Carolina.

Board of Governors of the Federal Reserve System, June 30, 2010.
Robert deV. Frierson,
Deputy Secretary of the Board.

[FR Doc. 2010-16315 Filed 7-2-10; 8:45 am]

BILLING CODE 6210-01-S